ENVIRONMENTAL PROTECTION AGENCY

[Docket #: R10-OAR-2005-OR-0001; FRL-7880-8]

Adequacy Status of the Portland, OR Carbon Monoxide Maintenance Plan for Transportation Conformity Purposes

AGENCY: Environmental Protection Agency (EPA).

ACTION: Notice of adequacy.

SUMMARY: In this notice, EPA is notifying the public that we have found the Second Portland Area Carbon Monoxide Maintenance Plan adequate for transportation conformity purposes. On March 2, 1999, the DC Circuit Court ruled that submitted State Implementation Plans (SIPs) cannot be used for conformity determinations until EPA has found them adequate. This affects future transportation conformity determinations prepared, reviewed and approved by the Portland Metro, Oregon Department of Transportation, Federal Highway Administration and the Federal Transit Administration.

DATES: This finding is effective March 21, 2005.

FOR FURTHER INFORMATION CONTACT: The finding is available at EPA's conformity Web site: http://www.epa.gov/otaq/transp.htm, (once there, click on the “Transportation Conformity” button, then look for “Adequacy Review of SIP Submissions”). You may also contact Wayne Elson, U.S. EPA, Region 10, Office of Air, Waste, and Toxics (AWT-107), 1200 Sixth Ave, Seattle WA 98101; (206) 553-1463 or elson.wayne@epa.gov.

SUPPLEMENTARY INFORMATION:

Background

Today's notice is simply an announcement of a finding that we have already made. EPA Region 10 sent a letter to the Washington Department of Ecology dated February 15, 2005, stating that the SIP is adequate for transportation conformity purposes.

Transportation conformity is required by section 176(c) of the Clean Air Act. EPA's conformity rule requires that transportation plans, programs, and projects conform to SIPs. Conformity to a SIP means that transportation activities will not produce new air quality violations, worsen existing violations, or delay timely attainment of the national ambient air quality standards.

The criteria by which we determine whether a SIP is adequate for conformity purposes are outlined in 40 CFR 93.118(e)(4). Please note that an adequacy review is separate from EPA's completeness review and it also should not be used to prejudge our ultimate approval of the SIP. Even if we find a SIP adequate for conformity, the SIP could later be disapproved. For the reader's ease, the motor vehicle emission budget included in the Maintenance Plan in pounds per winter time day of carbon monoxide is: 1,238,575 in 2005; 1,033,578 in 2010; and 1,181,341 in 2017.

We have described our process for determining the adequacy in SIPs in guidance dated May 14, 1999. This guidance in now is reflected in the amended transportation conformity rule, July 1, 2004 (69 FR 40004). We followed this process in making our adequacy determination.

Authority: 42 U.S.C. 7401-7671q.

Dated: February 18, 2005.
Michael F. Gearheard,
Acting Regional Administrator, Region 10.

[FR Doc. 05-4274 Filed 3-3-05; 8:45 am]

BILLING CODE 6560-50-P